FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement Nos.: 011510-023.

Title: West African Discussion Agreement.

Parties:

Atlantic Bulk Carriers, Ltd.;

HUAL A/S.

Synopsis: The amendment would delete HUAL A/S as a party to the agreement effective February 9, 2004. At that point, the agreement will be terminated.

Agreement No.: 011648-008.

Title: APL/Crowley/Lykes/MLL Space Charter and Sailing Agreement.

Parties:

American President Lines, Ltd.;

APL Co. PTE Ltd.;

Crowley Liner Service, Inc.;

Lykes Lines Limited, LLC; and

TMM Lines Limited, LLC.

Synopsis: The subject agreement modification revises Article 5.2(a) to adjust the space allocations of Crowley Liner Service, Inc. (“CLS”) and American President Lines, Ltd./APL Co. Pte. Ltd. (“APL”) in the Gulf/Caribbean portion of the agreement through May 31, 2004. It also provides that CLS and APL may charter space on an “as needed/as available basis” in that portion of the agreement after June 1, 2004.

Dated: January 16, 2004.
By Order of the Federal Maritime Commission.
Bryant L. VanBrakle,
Secretary.

[FR Doc. 04-1334 Filed 1-21-04; 8:45 am]

BILLING CODE 6730-01-P